DEPARTMENT OF LABOR

Employment and Training Administration

[TA-W-37,680]

Chick Orchards, Inc., Chic-A-Dee Packing Corporation, Monmouth, Maine; Notice of Termination of Investigation

Pursuant to Section 221 of the Trade Act of 1974, an investigation was initiated on May 15, 2000, in response to a petition filed on the same date on behalf of workers at Chick Orchards, Inc., Chic-A-Dee Packing Corporation, Monmouth, Maine.

The company official submitting the petition has requested that the petition be withdrawn. Consequently, further investigation in this case would serve no purpose, and the investigation has been terminated.

Signed in Washington, DC, this 6th day of June, 2000.
Grant D. Beale,
Program Manager, Division of Trade Adjustment Assistance.

[FR Doc. 00-16501 Filed 6-28-00; 8:45 am]

BILLING CODE 4510-30-M